DEPARTMENT OF COMMERCE

United States Patent and Trademark Office

[Docket No. PTO-P-2016-0051]

Notice of Roundtables and Extension of the Period for Comments on Examination Time Goals

AGENCY: United States Patent and Trademark Office, Commerce.

ACTION: Notice of public roundtables and extension of the comment period.

SUMMARY: The United States Patent and Trademark Office (Office or USPTO) previously announced information for roundtables in Alexandria, Virginia, and Dallas, Texas, to solicit public feedback as part of an effort to reevaluate its examination time goals. Examination time goals vary by technology and represent the average amount of time that a patent examiner is expected to spend examining a patent application in a particular technology. The Office now is providing information on the additional three roundtables that the Office will be conducting in Detroit, Michigan; Denver, Colorado; and San Jose, California. In addition, the Office is extending the written comment period to ensure that all stakeholders have sufficient opportunity to submit comments on the reevaluation of the Office's examination time goals.

DATES: Written Comments Deadline: To be ensured of consideration, written comments must be received on or before January 30, 2017.

ADDRESSES: Written comments should be sent by electronic mail addressed to ExternalExaminationTimeStudy@USPTO.gov. Comments also may be submitted by postal mail addressed to: Mail Stop Comments—Patents, Commissioner for Patents, P.O. Box 1450, Alexandria, VA 22313-1450, marked to the attention of Raul Tamayo, Senior Legal Advisor, Office of Patent Legal Administration, Office of the Deputy Commissioner for Patent Examination Policy.

Although comments may be submitted by postal mail, the Office prefers to receive comments by electronic mail in order to facilitate posting on the USPTO's Internet Web site (http://www.uspto.gov). Electronic comments may be submitted in plain text, ADOBE® portable document format, or MICROSOFT WORD® format. Comments not submitted electronically should be submitted on paper in a format that facilitates digital scanning into ADOBE® portable document format.

The comments will be available for viewing via the USPTO's Internet Web site (http://www.uspto.gov). The comments also will be available for public inspection at the Office of the Commissioner for Patents, currently located in Madison East, Tenth Floor, 600 Dulany Street, Alexandria, Virginia 22314. Because the comments will be made publicly available, information that the submitter does not desire to make public, such as an address or phone number, should not be included in the comments.

FOR FURTHER INFORMATION CONTACT: Roundtable information, including roundtable registration information: Elizabeth Magargel, Strategic Planning Project Manager, Office of the Assistant Deputy Commissioner for Patent Operations, by telephone at (571) 270-7248.

Written comments: Raul Tamayo, Senior Legal Advisor, Office of Patent Legal Administration, Office of the Deputy Commissioner for Patent Examination Policy, by telephone at (571) 272-7728.

Examination time goals: Daniel Sullivan, Director Technology Center 1600, by telephone at (571) 272-0900.

SUPPLEMENTARY INFORMATION: In a Federal Register Notice, Request for Comments on Examination Time Goals, 81 FR 73383 (Oct. 25, 2016), the Office solicited written comments on the reevaluation of the Office's examination time goals. In addition to accepting public feedback through the submission of written comments, the Office provided increased interactive participation through IdeaScale®, a Web-based collaboration tool that allows users to post comments and interact with the posted comments of others; and through roundtables in Alexandria, Detroit, Denver, Dallas, and San Jose. The October 25, 2016 Federal Register Notice provided dates and other information for the Alexandria and Dallas roundtables. The October 25, 2016 Federal Register Notice indicated that dates and other information for the roundtables to be conducted in Detroit, Denver, and San Jose would be forthcoming.

The Office now provides dates and other information for the roundtables to be conducted in Detroit, Denver, and San Jose.

The San Jose roundtable has been scheduled for January 11, 2017, which is after the written comment deadline set forth in the October 25, 2016 Federal Register Notice. To ensure that all roundtable attendees also have the opportunity to provide written comments, the Office hereby is extending the period for submission of written comments until January 30, 2017.

Please visit http://www.uspto.gov/patent/initiatives/eta-external-outreach for more information on the reevaluation of the Office's examination time goals. The Web page includes: Dates and registration information for the roundtables; information on how to use IdeaScale® to comment on examination time goals; and information to help inform public comments responsive to the October 25, 2016 Federal Register Notice requesting comments, such as background material illustrating the use of examination time goals in the context of individual examiner evaluation, and as an input into the model used to forecast pendency and hiring needs. The Office plans to use the public feedback it receives as an input to help ensure that the Office's examination time goals accurately reflect the amount of time needed by examiners to conduct quality examination in a manner that responds to stakeholders' interests.

Detroit, Denver, and San Jose Roundtable Registration Information: Roundtables will be conducted in Detroit, Denver, and San Jose, as detailed below. Registration is required, and early registration is recommended because seating is limited. There is no fee to register for any of the roundtables, and registration will be on a first-come, first-served basis. Registration on the day of the roundtables will be permitted on a space-available basis beginning 30 minutes before each roundtable.

To register, please send an email message to ExternalExaminationTimeStudy@USPTO.gov and provide the following information: (1) Your name, title, and if applicable, company or organization, address, phone number, and email address; and (2) which roundtable you wish to attend. Each attendee, even if from the same organization, must register separately. If you need special accommodations, e.g., due to a disability, please inform a contact person identified below.

For more information on any of the roundtables, including the agenda for each roundtable and webcast access instructions for the Alexandria roundtable, please visit http://www.uspto.gov/patent/initiatives/eta-external-outreach.

Detroit Roundtable

Detroit Dates: Roundtable Date: The Detroit roundtable will be held on Thursday, December 15, 2016, beginning at 9:00 a.m. Eastern Standard Time (EST) and ending at 11:00 a.m. EST.

Registration Deadline: Registration to attend the Detroit roundtable in person or via webcast is requested by December 8, 2016. See the “Roundtable Registration Information” section of this notice, or visit http://www.uspto.gov/patent/initiatives/eta-external-outreach, for additional details on how to register.

Address of Detroit Roundtable: The Detroit roundtable will be held at the USPTO's Midwest Regional Office in the Stroh Building, 300 River Place Drive, Suite 2900, Detroit, MI, 48207.

Denver Roundtable

Denver Dates: Roundtable Date: The Denver roundtable will be held on Thursday, December 15, 2016, beginning at 10:00 a.m. Mountain Standard Time (MST) and ending at 12:00 p.m. MST.

Registration Deadline: Registration to attend the Denver roundtable is requested by December 8, 2016. See the “Roundtable Registration Information” section of this notice, or visit http://www.uspto.gov/patent/initiatives/eta-external-outreach, for additional details on how to register.

Address of Denver Roundtable: The Denver roundtable will be held at the USPTO's Rocky Mountain Regional Office in the Byron G. Rogers Federal Building, 1961 Stout Street, Longs Peak Conference Room, 2nd Floor, Denver, CO 80296.

San Jose Roundtable

San Jose Dates: Roundtable Date: The San Jose roundtable will be held on Wednesday, January 11, 2017, beginning at 1:00 p.m. Pacific Standard Time (PST) and ending at 3:00 p.m. PST.

Registration Deadline: Registration to attend the San Jose roundtable is requested by January 4, 2017. See the “Roundtable Registration Information” section of this notice, or visit http://www.uspto.gov/patent/initiatives/eta-external-outreach, for additional details on how to register.

Address of San Jose Roundtable: The San Jose roundtable will be held at the San Jose City Hall, 200 E. Santa Clara Street, San Jose, CA 95113.

Dated: November 22, 2016.
Michelle K. Lee,
Under Secretary of Commerce for Intellectual Property and Director of the United States Patent and Trademark Office.

[FR Doc. 2016-28689 Filed 11-29-16; 8:45 am]

BILLING CODE 3510-16-P